INTERNATIONAL TRADE COMMISSION

[Investigation No. 337-TA-767]

In the Matter of Certain Glassware; Notice of Commission Determination not To Review an Initial Determination Terminating the Investigation in Its Entirety; Issuance of a Consent Order; Termination of Investigation

AGENCY: U.S. International Trade Commission.

ACTION: Notice.

SUMMARY: Notice is hereby given that the U.S. International Trade Commission has determined not to review the presiding administrative law judge's (“ALJ”) initial determination (“ID”) (Order No. 8) granting the joint motion of complainant Boston Beer Corporation of Boston, Massachusetts (“Boston Beer”) and respondents 1 Source Signature Glassware, Inc. (“1 Source”), the di Sciacca Company (“di Sciacca”), and the San Tan Brewing Company, Inc. (“San Tan”) all of Chandler, Arizona to terminate in its entirety Inv. No. 337-TA-767, Certain Glassware, based on a consent order. The investigation is terminated.

FOR FURTHER INFORMATION CONTACT: Megan M. Valentine, Office of the General Counsel, U.S. International Trade Commission, 500 E Street, SW., Washington, DC 20436, telephone (202) 708-2301. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on March 24, 2011, based on a complaint filed on February 18, 2011, and supplemented on March 14, 2011, by Boston Beer. 76 FR 16639-40. The complaint, as supplemented, alleges violations of Section 337 of the Tariff Act of 1930, as amended, 19 U.S.C. 1337, in the importation into the United States, the sale for importation, and the sale within the United States after importation of certain glassware by reason of infringement of U.S. Patent Nos. D582,213 and D569,189. The complaint further alleges the existence of a domestic industry. The Commission's notice of investigation named 1 Source, di Sciacca, and San Tan as respondents.

On June 1, 2011, Boston Beer and Respondents filed a joint motion for termination of the investigation in its entirety by reason of a consent order stipulation. No responses were filed.

On June 14, 2011, the ALJ issued the subject ID, granting the joint motion for termination in its entirety. The ALJ found that the consent order stipulations complied with the requirements of Commission Rule 210.21(c)(3) (19 CFR 210.21(c)(3)). The ALJ also concluded that there is no evidence that termination of this investigation in its entirety would be contrary to the public interest. No petitions for review of this ID were filed.

The Commission has determined not to review the ID.

The authority for the Commission's determination is contained in section 337 of the Tariff Act of 1930, as amended (19 U.S.C. 1337), and in section 210.42 of the Commission's Rules of Practice and Procedure (19 CFR 210.42).

By order of the Commission.
Issued: June 30, 2011.
James R. Holbein,
Secretary to the Commission.

[FR Doc. 2011-16912 Filed 7-6-11; 8:45 am]

BILLING CODE 7020-02-P